DEPARTMENT OF THE TREASURY

Internal Revenue Service

26 CFR Part 1

[REG-127819-06]

RIN 154-BF79

TIPRA Amendments to Section 199

AGENCY: Internal Revenue Service (IRS), Treasury.

ACTION: Change of location of public hearing.

SUMMARY: On October 19, 2006, on page 61692 of the Federal Register (71 FR 61692), a notice of proposed rulemaking by cross-reference to temporary regulations and notice of public hearing announced that a public hearing concerning the application of section 199, which provides a deduction for income attributable to domestic production activities will be held February 5, 2007 in the auditorium of the New Carrollton Federal Building, 5000 Ellin Road, Lanham, MD 20706. The location of the public hearing has changed.

ADDRESSES: The public hearing will be held in the IRS Auditorium, Internal Revenue Building, 1111 Constitution Avenue, NW., Washington, DC.

FOR FURTHER INFORMATION CONTACT: Concerning submissions of comments, the hearing, and/or to be placed on the building access list to attend the hearing Kelly Banks, (202) 622-0392 (not a toll-free number).

LaNita Van Dyke,
Branch Chief, Publications and Regulations, Associate Chief Counsel, Legal Processing Division, (Procedure and Administration).

[FR Doc. E6-22016 Filed 12-22-06; 8:45 am]

BILLING CODE 4830-01-P